DEPARTMENT OF TRANSPORTATION

Pipeline and Hazardous Materials Safety Administration

[Docket ID PHMSA-2011-0084]

Pipeline Safety: Notice of Public Webinars on Implementation of Distribution Integrity Management Programs

AGENCY: Pipeline and Hazardous Materials Safety Administration (PHMSA), DOT.

ACTION: Notice of Public Webinars.

SUMMARY: Members of the state and Federal Distribution Integrity Management Program Implementation Team (Team) recently completed a series of pilot inspections of gas distribution operators' distribution integrity management programs (DIMP). The purpose of the two separate and distinct webinars is to discuss the Team's findings and general observations from the pilot inspections; the expectations for operators in implementing their plan; the DIMP inspection forms; and a question and answer session.

DATES: The webinars will be held on May 10, 2011, between 10:30 a.m. and 12:30 p.m. EDT and June 8, 2011, at 10:30 a.m. and 12:30 p.m. EDT. Refer to the DIMP Web site for additional information: http://primis.phmsa.dot.gov/dimp/index.htm. Copies of the presentations will be available on the DIMP website within 30 days following the webinar.

FOR FURTHER INFORMATION CONTACT: Chris Mclaren by e-mail at Chris.Mclaren@dot.gov or by phone at 281-216-4455.

SUPPLEMENTARY INFORMATION: Purpose: The DIMP Team is a collaboration of state and Federal regulators to support improvements in the integrity of the Nation's gas distribution pipeline systems through development of inspection methods and guidance for the evaluation of an operator's DIMP. The Team recognizes the individual characteristics of each state's oversight program and operating conditions as well as the evolutionary process that distribution system operators will go through in building an integrity management culture from a prescriptive, compliance-based culture. Due to the high level, risk-based, performance oriented nature of the regulations contained in 49 CFR 192.1001-1015, the Team recognizes that operators are seeking guidance in implementing their programs. Two webinars are being sponsored to provide operators with information and to direct operators to resource material.

The material presented at this webinar was created by the Team through a consensus process. States will implement the DIMP rule under their individual state statutory authority in accordance with the applicable certification under 49 U.S.C. 60105 or agreement under section 60106. States may establish their own procedures, inspection forms, and guidance in implementing the DIMP rule. Since regulatory structures differ among states, operators should contact the state authority regulating their distribution pipeline system for more information.

Preliminary Webinar Agenda

May 10, 2011—DIMP Implementation Webinar Agenda

• Welcome, Introductions, and Overview

• DIMP Pilot Inspection Findings

• DIMP Web Site Navigation & Contents

• Presentation of the Inspection Form

• Question & Answer Session

• Session Concludes

June 8, 2011—DIMP Implementation Webinar Agenda

• Welcome, Introductions, and Overview

• Industry Perspective

• Performance Data From CY 2010 DIMP Annual Reports

• DIMP Implementation Topics

• Question & Answer Session

• Session Concludes

Registration: Members of the public may attend this free webinar. To help assure that adequate space is provided, all attendees are required to register for the webinar at http://opsweb.phmsa.dot.gov/webinars. Upon registration, the webinar information will be distributed. Due to the limited capacity, we encourage and request that parties at the same location share a webinar link. The Webinars will use the internet link for the visual and audio capabilities and not a standard phone line.

Comments: Members of the public may also submit written comments, either before, during, or after the webinar. Comments should reference Docket ID PHMSA-2011-0084. Comments can be submitted during the webinar through the provided internet link. Instructions describing how to submit questions will be given at the beginning of the webinar.

Comments may be submitted before or after the webinar in the following ways:

• DIMP Web site: http://primis.phmsa.dot.gov/dimp/comment.htm. This site allows the public to enter comments about DIMP before or after the webinar. Follow the instructions for submitting comments.

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

• Hand Delivery: Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading in the Regulatory Analyses and Notices section of the SUPPLEMENTARY INFORMATION for additional information.

Privacy Act Statement: Anyone may search the electronic form of all comments received for any of our dockets. You may review DOT's complete Privacy Act Statement in the Federal Register published April 11, 2000 (65 FR 19477).

Information on Services for Individuals with Disabilities: For information on facilities or services for individuals with disabilities, or to request special assistance during the webinar, please contact Chris Mclaren at 281-216-4455 by May 3, 2011.

Issued in Washington, DC on April 20, 2011.
Alan K. Mayberry,
Deputy Associate Administrator for Field Operations.

[FR Doc. 2011-9955 Filed 4-22-11; 8:45 am]

BILLING CODE 4910-60-P